DEPARTMENT OF TRANSPORTATION

Federal Aviation Administration

14 CFR Part 71

[Docket No. FAA-2022-0545; Airspace Docket No. 22-AEA-9]

RIN 2120-AA66

Amendment of Class D and Class E Airspace; Baltimore, MD

AGENCY: Federal Aviation Administration (FAA), DOT.

ACTION: Final rule.

SUMMARY: This action amends Class D airspace, Class E Surface airspace, and Class E Airspace Designated as an Extension to Class D airspace at Martin State Airport, Baltimore, MD. This action replaces the Baltimore Very High Frequency Omnidirectional Range Collocated Tactical Air Navigation (VORTAC) with the term Point of Origin. Also, this action removes unnecessary verbiage from the descriptor header. In addition, this action makes an editorial change replacing the term Airport/Facility Directory with the term Chart Supplement in the legal descriptions of associated Class D and E airspace and makes the editorial change replacing the term Notice to Airmen with the term Notice to Air Missions. Controlled airspace is necessary for the safety and management of instrument flight rules (IFR) operations in the area.

DATES: Effective 0901 UTC, November 3, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at www.faa.gov/air_traffic/publications/. For further information, you can contact the Airspace Policy Group, Federal Aviation Administration, 800 Independence Avenue SW, Washington, DC 20591; Telephone: (202) 267-8783.

FOR FURTHER INFORMATION CONTACT: John Goodson, Operations Support Group, Eastern Service Center, Federal Aviation Administration, 1701 Columbia Avenue, College Park, GA 30337; Telephone: (404) 305-5966.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends airspace in Baltimore, MD, to support IFR operations in the area.

History

The FAA published a notice of proposed rulemaking in the Federal Register (87 FR 32103, May 27, 2022) for Docket No. FAA-2022-0545 to amend Class D airspace, Class E Surface airspace, and Class E Airspace Designated as an Extension to Class D airspace at Baltimore, MD.

Interested parties were invited to participate in this rulemaking effort by submitting written comments on the proposal to the FAA. One comment was received via email from Commander (CDR) Bradford Wallace, Navy Representative, Eastern Service Area, FAA (AJV-E23). CDR Wallace was concerned that the editorial change replacing the Baltimore VORTAC with the term Point of Origin in the Notice of Proposed Rulemaking (NPRM) made it sound like neither navigational aids (NAVAIDS) still exist. Emails were sent to CDR Wallace explaining that the FAA is progressing to a `Point of Origin' where NAVAIDS currently are used to describe airspace, and the FAA feels this action will help in the future as ground based navigational aids do become decommissioned.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic routes, and reporting points.

The Rule

The FAA amends 14 CFR part 71 by amending Class D airspace, Class E Surface airspace, and Class E Airspace Designated as an Extension to Class D airspace at Martin State Airport, Baltimore, MD. This action replaces the Baltimore VORTAC with the term Point of Origin. Also, this action removes unnecessary verbiage from the descriptor header. In addition, this action makes an editorial change replacing the term Airport/Facility Directory with the term Chart Supplement in the legal descriptions of associated Class D and E airspace and makes the editorial change replacing the term Notice to Airmen with the term Notice to Air Missions.

Class D and Class E airspace designations are published in Paragraphs 5000, 6002, and 6004, respectively, of FAA Order JO 7400.11F, dated August 10, 2021, and effective September 15, 2021, which is incorporated by reference in 14 CFR 71.1. The Class D and Class E airspace designations listed in this document will be published subsequently in the Order.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order JO 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

AEA MD D Baltimore, MD [Amended]

Martin State Airport, MD

(Lat. 39°19′32″ N, long. 76°24′50″ W)

Point of Origin

(Lat. 39°10′16″ N, long. 76°39′41″ W)

That airspace extending upward from the surface to and including 2,500 feet MSL within a 5.2-mile radius of Martin State Airport and within 4.4 miles each side of a 14.7-mile radius arc of the Point of Origin extending clockwise from the Point of Origin's 030° radial to the Point of Origin's 046° radial, excluding that airspace within the Washington Tri-Area Class B airspace area and Restricted Areas R-4001A and R-4001B when they are in effect, and Restricted Area R-4001C, which is continuously active up to 10,000 feet MSL. This Class D airspace area is effective during the specific dates and times established in advance by a Notice to Air Missions. The effective date and time will thereafter be continuously published in the Chart Supplement.

Paragraph 6002 Class E Surface Airspace.

* * * * *

AEA MD E2 Baltimore, MD [Amended]

Martin State Airport, MD

(Lat. 39°19′32″ N, long. 76°24′50″ W)

Point of Origin

(Lat. 39°10′16″ N, long. 76°39′41″ W)

That airspace within a 5.2-mile radius of Martin State Airport and within 4.4 miles each side of a 14.7-mile radius arc of the Point of Origin extending clockwise from the Point of Origin's 030° radial to the Point of Origin's 046° radial, excluding that airspace within the Washington Tri-Area Class B airspace area and Restricted Areas R-4001A and R-4001B when they are in effect. This Class E airspace area is effective during the specific dates and times established in advance by a Notice to Air Missions. The effective date and time will thereafter be continuously published in the Chart Supplement.

Paragraph 6004 Class E Airspace Designated as an Extension to Class D.

* * * * *

AEA MD E4 Baltimore, MD [Amended]

Martin State Airport, MD

(Lat. 39°19′32″ N, long. 76°24′50″ W)

That airspace extending upward from the surface within 4 miles each side of a 134° bearing from Martin State Airport extending from the 5.2-mile radius of Martin State Airport to 9.2 miles southeast of the airport, excluding that airspace within the Washington Tri-Area Class B airspace area and Restricted Areas R-4001A and R-4001B when they are in effect. This Class E airspace area is effective during the specific dates and times established in advance by a Notice to Air Missions. The effective date and time will thereafter be continuously published in the Chart Supplement.

Issued in College Park, Georgia, on August 29, 2022.
Lisa Burrows, Manager,
Airspace & Procedures Team North, Eastern Service Center, Air Traffic Organization.

[FR Doc. 2022-18939 Filed 9-1-22; 8:45 am]

BILLING CODE 4910-13-P